COMMISSION ON CIVIL RIGHTS

Agenda and Notice of Public Meeting of the Louisiana Advisory Committee

Notice is hereby given, pursuant to the provisions of the rules and regulations of the U.S. Commission on Civil Rights, that a meeting of the Louisiana Advisory Committee to the Commission will convene at 1:00 p.m. and adjourn at 6:00 p.m. on February 8, 2000, at the Four Points Hotel, 333 Poydras, New Orleans, Louisiana 70130. The purpose of the meeting is to plan a community forum on environmental justice.

Persons desiring additional information, or planning a presentation to the Committee, should contact Melvin L. Jenkins, Director of the Central Regional Office, 913-551-1400 (TDD 913-551-1414). Hearing-impaired persons who will attend the meeting and require the services of a sign language interpreter should contact the Regional Office at least ten (10) working days before the scheduled date of the meeting.

The meeting will be conducted pursuant to the provisions of the rules and regulations of the Commission.

Dated at Washington, DC, January 18, 2000.
Carol-Lee Hurley,
Chief, Regional Programs Coordination Unit.

[FR Doc. 00-2096 Filed 1-31-00; 8:45 am]

BILLING CODE 6335-01-P